DEPARTMENT OF THE INTERIOR

National Park Service

[NPS-WASO-NAGPRA-NPS0026178; PPWOCRADN0-PCU00RP14.R50000]

Notice of Inventory Completion: Office of the State Archeologist, University of Iowa, Iowa City, IA, and Coe College, Cedar Rapids, IA

AGENCY: National Park Service, Interior.

ACTION: Notice.

SUMMARY: The University of Iowa, Office of the State Archeologist Bioarcheology Program (OSA), acting as the agent for Coe College, has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the OSA. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the OSA at the address in this notice by October 10, 2018.

ADDRESSES: Lara Noldner, Office of the State Archeologist Bioarcheology Program, University of Iowa, 700 S Clinton Street, Iowa City, IA 52242, telephone (319) 384-0740, email lara-noldner@uiowa.edu.

SUPPLEMENTARY INFORMATION: Notice is here given in accordance with the Native American Graves Protection and Repatriation Act (NAGPRA), 25 U.S.C. 3003, of the completion of an inventory of human remains and associated funerary objects under the control of the University of Iowa, Office of the State Archeologist Bioarcheology Program, Iowa City, IA. The human remains and associated funerary objects were removed from an unknown location in Hawaii.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the OSA professional staff, acting on behalf of Coe College, in consultation with representatives of the Office of Hawaiian Affairs (OHA).

History and Description of the Remains

At an unknown date, human remains representing, at minimum, three individuals were removed from an unknown burial cave in Hawaii. In 1917, a professor at Coe College, in Cedar Rapids, Linn County, IA, donated the human remains and associated funerary object to the college museum. Coe College subsequently sent the human remains and associated funerary object to the OSA for analysis and assessment. The human remains represent two adults of unknown age and sex, and one juvenile, approximately 12 to 18 years old (Burial Project 1934). No known individuals were identified. The one associated funerary object is a woven grass lauhala mat. In addition to being used for lining the floors of dwellings and sleeping areas, these mats were often used in Hawaiian burial caves.

Determinations Made by the Office of the State Archeologist Bioarcheology Program

Officials of the Office of the State Archeologist Bioarcheology Program, acting on behalf of Coe College, have determined that:

• Pursuant to 25 U.S.C. 3001(9), the human remains described in this notice represent the physical remains of three individuals of Native Hawaiian ancestry.

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Native Hawaiian human remains and associated funerary object and the Office of Hawaiian Affairs.

Additional Requestors and Disposition

Lineal descendants or representatives of any Indian Tribe or Native Hawaiian organization not identified in this notice that wish to request transfer of control of these human remains and associated funerary object should submit a written request with information in support of the request to Lara Noldner, Office of the State Archeologist Bioarcheology Program, University of Iowa, 700 S Clinton Street, Iowa City, IA 52242, telephone (319) 384-0740, email lara-noldner@uiowa.edu, by October 10, 2018. After that date, if no additional requestors have come forward, transfer of control of the human remains and associated funerary object to the Office of Hawaiian Affairs may proceed.

The University of Iowa, Office of the State Archeologist Bioarcheology Program is responsible for notifying the Office of Hawaiian Affairs that this notice has been published.

Dated: August 3, 2018.
Melanie O'Brien,
Manager, National NAGPRA Program.

[FR Doc. 2018-19531 Filed 9-7-18; 8:45 am]

BILLING CODE 4312-52-P